NATIONAL SCIENCE FOUNDATION

Sunshine Act Meetings

The National Science Board's Committee on National Science and Engineering Policy hereby gives notice of the scheduling of a teleconference for the transaction of National Science Board business as follows:

TIME AND DATE: Friday, February 11, 2022, from 2:30-3:30 p.m. EST.

PLACE: This meeting will be held by teleconference through the National Science Foundation.

STATUS: Open.

MATTERS TO BE CONSIDERED: The agenda of the teleconference is: Chair's opening remarks; update on Science & Engineering Indicators 2022 reports; discussion of the release and rollout of The State of U.S. Science & Engineering 2022; discussion of socioeconomic barriers to participation in STEM and the Committee's plans to explore this issue.

CONTACT PERSON FOR MORE INFORMATION: Point of contact for this meeting is: Chris Blair, cblair@nsf.gov, 703/292-7000. Meeting information, including a link to watch this meeting on YouTube may be found at the National Science Board website www.nsf.gov/nsb.

Chris Blair,
Executive Assistant to the National Science Board Office.

[FR Doc. 2022-02775 Filed 2-4-22; 4:15 pm]

BILLING CODE 7555-01-P